DEPARTMENT OF AGRICULTURE

Animal and Plant Health Inspection Service

[Docket No. APHIS-2007-0044]

Determination of Regulated Status of Alfalfa Genetically Engineered for Tolerance to the Herbicide Glyphosate; Record of Decision

AGENCY: Animal and Plant Health Inspection Service, USDA.

ACTION: Notice.

SUMMARY: This notice advises the public of the Animal and Plant Health Inspection Service's (APHIS) record of decision and determination on the petition regarding the regulated status of alfalfa genetically engineered for tolerance to the herbicide glyphosate based on APHIS' final environmental impact statement.

FOR FURTHER INFORMATION CONTACT: Dr. Rebecca L. Stankiewicz Gabel, Senior Environmental Protection Specialist, Environmental Risk Analysis Programs, BRS, APHIS, 4700 River Road Unit 147, Riverdale, MD 20737-1238; (301) 734-5603. To obtain copies of the record of decision or the final environmental impact statement on which the record of decision is based, contact Ms. Cindy Eck at (301) 734-0667, e-mail: cynthia.a.eck@aphis.usda.gov.

SUPPLEMENTARY INFORMATION: This notice advises the public that the Animal and Plant Health Inspection Service (APHIS) has prepared a record of decision and determination on the petition regarding the regulated status of alfalfa genetically engineered for tolerance to the herbicide glyphosate based on an environmental impact statement (EIS) prepared in connection with its determination.

The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered (GE) organisms and products are considered “regulated articles.”

The regulations in § 340.6(a) provide that any person may submit a petition to APHIS seeking a determination that an article should not be regulated under 7 CFR part 340. Paragraphs (b) and (c) of § 340.6 describe the form that a petition for a determination of nonregulated status must take and the information that must be included in the petition.

In a notice published in the Federal Register on June 27, 2005 (70 FR 36917-36919, Docket No. 04-085-3), APHIS advised the public of its determination, effective June 14, 2005, that the Monsanto and Forage Genetics International GE glyphosate-tolerant alfalfa lines designated as events J101 and J163 were no longer considered regulated articles under the regulations governing the introduction of certain GE organisms. That determination was subsequently challenged in the United States District Court for the Northern District of California by the Center for Food Safety, other associations, and several organic alfalfa growers. The lawsuit alleged that APHIS' decision to deregulate the GE alfalfa events J101 and J163 violated the National Environmental Policy Act (NEPA), the Endangered Species Act, and the Plant Protection Act.

On February 13, 2007, the court in that case issued its memorandum and order in which it determined that APHIS had violated NEPA by not preparing an EIS in connection with its deregulation determination. The court ruled that the environmental assessment prepared by APHIS for its deregulation determination failed to adequately consider certain environmental impacts in violation of NEPA. The deregulation determination was vacated and APHIS was directed by the court to prepare an EIS in connection with making a new determination on the regulated status of the GE alfalfa.

On December 18, 2009, the Environmental Protection Agency published a notice in the Federal Register (74 FR 67206-67207, Docket No. ER-FRL-8986-6) announcing the availability of a draft EIS in connection with making a determination on the regulated status of the GE alfalfa. Comments on the draft EIS were to have been received on or before February 16, 2010. APHIS subsequently published a notice ¹ in the Federal Register on February 24, 2010 (75 FR 8299-8300, Docket No. APHIS-2007-0044), extending the comment period through March 3, 2010.

¹ This and the subsequent notices mentioned in this notice, as well as comments received, supporting and related materials, and other documents can be viewed at http://www.regulations.gov/fdmspublic/component/main?main=DocketDetail&d=APHIS-2007-0044.

In December 2010, APHIS published and distributed the final EIS, which included discussion of the public comments received on the draft EIS. On December 23, 2010, the Environmental Protection Agency published a notice in the Federal Register (75 FR 80807-80808, Docket No. ER-FRL-8994-3) announcing the availability of the final EIS. The NEPA implementing regulations in 40 CFR 1506.10 require a 30-day review period between the time a final EIS is published and the time an agency makes a decision on an action covered by the EIS. APHIS received more than 16,000 comments on the final EIS by the time this review period ended on January 24, 2011.

APHIS has reviewed the final EIS and has concluded that it has fully analyzed the issues covered by the draft EIS and those comments and suggestions submitted by commenters. APHIS has now prepared a record of decision based on the final EIS and is making that record available to the public. The record of decision and the final EIS on which the record of decision is based may be viewed on the Internet at http://www.regulations.gov/fdmspublic/component/main?main=DocketDetail&d=APHIS-2007-0044. Copies of those documents may also be obtained from the person listed under FOR FURTHER INFORMATION CONTACT.

The record of decision has been prepared in accordance with: (1) NEPA, (2) regulations of the Council on Environmental Quality for implementing the procedural provisions of NEPA (40 CFR parts 1500-1508), (3) USDA regulations implementing NEPA (7 CFR part 1b), and (4) APHIS' NEPA Implementing Procedures (7 CFR part 372).

Done in Washington, DC, this January 27, 2011.
Kevin Shea,
Acting Administrator, Animal and Plant Health Inspection Service.

[FR Doc. 2011-2268 Filed 2-1-11; 8:45 am]

BILLING CODE 3410-34-P